DEPARTMENT OF TRANSPORTATION

Federal Aviation Administration

[Policy Statement No. ANM-01-111-165]

Certification of Power Supply systems for Portable Electronic Devices on Part 25 Airplanes

AGENCY: Federal Aviation Administration (FAA), DOT.

ACTION: Notice of final policy statement.

SUMMARY: The Federal Aviation Administration (FAA) announces the availability of final policy on certification of power supply systems for portable electronic devices on part 25 airplanes.

DATES: This final policy was issued by the transport Airplane Directorate on March 18, 2005.

FOR FURTHER INFORMATION CONTACT: Stephen Slotte, Federal Aviation Administration, Transport Airplane Directorate, Transport Standards Staff, Airplane and flight Crew Interface Branch, ANM-111, 1601 Lind Avenue, SW., Renton, WA 98055-4056; telephone (425) 227-2315; fax (425) 227-1320; e-mail: steve.slotte@faa.gov.

SUPPLEMENTARY INFORMATION:

Comments Invited

Disposition of Comments

A notice of proposed policy was published in the Federal Register on August 27, 2001. Seven (7) commenters responded to the request for comments.

Background

One of the purposes of this and other policy is to communicate acceptable methods of compliance with the part 25 rules. The compliance methods discussed in this policy should be applied to type, amended, supplemental, and amended supplemental type certification programs whose application date is on or after the date of the policy is finalized. For existing certification programs whose application precedes the date this policy is effective and the methods of compliance have already been coordinated with and approved by the FAA or their designee, the applicant may continue to follow the previously acceptable methods of compliance or choose to follow the guidance contained in this policy.

The policy contained in the memorandum should be applied to all transport airplane programs for an acceptable method of compliance with 14 CFR part 25 for power supply systems (PSS) installed in part 25 airplanes for use with passenger-provided carry-on devices or portable electronic devices (PED). Portable electronic devices include but are not limited to portable computers, hand-held computing devices, and hand-held gaming devices. These guidelines are applicable to PSS intended for use with PED and are independent of the PSS outlet location (e.g., seat, wall, or cabinet mounted) and apply only to the electrical aspects of PSS for PED.

This policy does not cover the approval or the use of these devices or any interconnecting means used to power such equipment onboard an airplane. This guidance covers low voltage and high voltage systems.

The final policy as well as the disposition of public comments received is available on the Internet at the following address: http://airweb.faa.gov.rgl. If you do not have access to the Internet, you can obtain a copy of the policy by contacting the person listed under FOR FURTHER INFORMATION CONTACT.

Issued in Renton, Washington, on March 18, 2005.
Ali Bahrami,
Manager, Transport Airplane Directorate, Aircraft Certification Service.

[FR Doc. 05-7193 Filed 4-8-05; 8:45 am]

BILLING CODE 4910-13-M